DEPARTMENT OF HEALTH AND HUMAN SERVICES

Health Resources and Services Administration

Agency Information Collection Activities: Proposed Collection; Comment Request

In compliance with the requirement for opportunity for public comment on proposed data collection projects (section 3506(c)(2)(A) of title 44, United States Code, as amended by the Paperwork Reduction Act of 1995, Public Law 104-13), the Health Resources and Services Administration (HRSA) publishes periodic summaries of proposed projects being developed for submission to the Office of Management and Budget under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The National Health Service Corps Scholarship Program Deferment Request Forms and Associated Reporting Requirements (OMB No. 0915-0179)—Revision

The National Health Service Corps (NHSC) Scholarship Program was established to assure an adequate supply of trained primary care health professionals (allopathic physicians, osteopathic physicians, dentists, nurse practitioners, nurse midwives, physician assistants, and, if needed by the NHSC program, other health professionals), to provide services in Health Professional Shortage Areas (HPSAs) throughout the United States. Under the Program, the Secretary has entered into contracts with health professions students agreeing to pay the total school tuition, required fees and a stipend for living expenses. In exchange, the scholarship recipients agreed to provide full-time clinical services at a site in a federally designated HPSA.

To assure that scholars are adequately trained to provide primary health services to the underserved, individuals receiving a degree from a school of medicine (allopathic or osteopathic) are required by law to request a deferment of their service obligation to complete primary care postgraduate training (e.g., a residency) approved by the NHSC. Scholars in other disciplines (e.g., dentistry) may request a deferment of their service obligation to pursue postgraduate training approved by the NHSC. The Deferment Request Form solicits information (including the period and type of training for which the deferment is requested), so that the NHSC is able to annually determine if a deferment will be approved. In special circumstances (e.g., switching residency programs, requesting a chief residency position, etc.), the scholar may also be asked to submit additional documentation (e.g., a letter from the new program director, a description of the chief residency position and how it would benefit the NHSC, etc.)

The estimated response burden is as follows:

Form | Number of respondents | Responses per respondent | Hours per response | Total hour burden
Deferment Request Forms | 600 | 1 | 1 | 600
Letters of Intent and Request | 100 | 1 | 1 | 100
Total | 700 |  |  | 700

Send comments to Susan G. Queen, Ph.D., HRSA Reports Clearance Officer, Room 16C-17, Parklawn Building, 5600 Fishers Lane, Rockville, MD 20857. Written comments should be received within 60 days of this notice.

Dated: December 16, 2003.
Tina M. Cheatham,
Acting Director, Division of Policy Review and Coordination.

[FR Doc. 03-31430 Filed 12-19-03; 8:45 am]

BILLING CODE 4165-15-P